ENVIRONMENTAL PROTECTION AGENCY

[FRL-9945-02-OA]

Performance Partnership Grants

AGENCY: Environmental Protection Agency (EPA).

ACTION: Notice.

SUMMARY: This action adds the new multi-purpose categorical grant program for states and tribes, which was established by and funded through the Consolidated Appropriations Act, 2016, to the list of the Environmental Protection Agency's (EPA) environmental grant programs eligible for inclusion in Performance Partnership Grants (PPGs).

FOR FURTHER INFORMATION CONTACT: Reynold Meni, Office of Congressional and Intergovernmental Relations, Office of the Administrator (Mail Code 1301), Environmental Protection Agency, 1200 Pennsylvania Ave. NW., Washington, DC 20460; telephone number: (202) 564-3669; fax number: (202) 501-1540; email address: meni.reynold@epa.gov.

SUPPLEMENTARY INFORMATION: The Omnibus Consolidated Rescissions and Appropriations Act of 1996 (Pub. L. 104-134) and the Department of Veterans Affairs and Housing and Urban Development, and Independent Agencies Appropriations Act of 1998 (Pub. L. 105-65) authorize EPA to combine categorical grant funds appropriated in EPA's State and Tribal Assistance Grant (STAG) account and award the funds as PPGs. Public Law 104-134 states, in relevant part, that: “the Administrator is authorized to make grants annually from funds appropriated under this heading, subject to such terms and conditions as the Administrator shall establish, to any State or federally recognized Indian tribe for multimedia or single media pollution prevention, control and abatement and related environmental activities at the request of the Governor or other appropriate State official or the tribe.”

Public Law 105-65 amended the PPG authority by authorizing “interstate agencies, tribal consortia, and air pollution control agencies” to receive PPGs. Pursuant to the authority granted in Public Law 104-134 and Public Law 105-65, EPA promulgated PPG regulations in January of 2001 as part of the Agency's revision of 40 CFR part 35, the rules governing categorical environmental program grants. The regulation at 40 CFR 35.133(b) states that: “The Administrator may, in guidance or regulation, describe subsequent additions, deletions, or changes to the list of environmental programs eligible for inclusion in Performance Partnership Grants.”

EPA is authorized under the Consolidated Appropriations Act, 2016 (Pub. L. 114-113), Title II of Division G to award $21 million in multi-purpose grants to states and tribes for implementation of environmental programs and projects that complement existing environmental program grants, including interagency agreements. The conference report's language clarifies that these funds will allow states and tribes to have the necessary flexibility to direct resources for the implementation of high priority activities, including the processing of permits, which complement programs under established environmental statutes.

The multi-purpose categorical grant program is funded under EPA's STAG appropriations account and, therefore, is eligible for inclusion in PPGs. This notice is made pursuant to 40 CFR 35.133(b), to inform entities eligible to receive PPGs that the program listed above may be included in a PPG subject to any limitations herein defined. Hereafter, multi-purpose grants are eligible for inclusion in PPGs and may be included in a PPG at the request of the appropriate official of an eligible entity, subject to EPA's regulations at 2 CFR part 200 and 2 CFR part 1500 and 40 CFR 35.001-35.138 and 35.500-35.538. The authority to issue this Federal Register notice has been delegated to the Deputy Associate Administrator for Intergovernmental Relations.

Dated: April 11, 2016.
Mark W. Rupp,
Deputy Associate Administrator for Intergovernmental Relations.

[FR Doc. 2016-08798 Filed 4-14-16; 8:45 am]

BILLING CODE 6560-50-P